DEPARTMENT OF THE INTERIOR

National Park Service

[NPS-WASO-NAGPRA-NPS0039214; PPWOCRADN0-PCU00RP14.R50000]

Notice of Inventory Completion: Los Angeles County Museum of Natural History, Los Angeles, CA

AGENCY: National Park Service, Interior.

ACTION: Notice.

SUMMARY: In accordance with the Native American Graves Protection and Repatriation Act (NAGPRA), the Los Angeles County Museum of Natural History (LACMNH) has completed an inventory of human remains and has determined that there is a cultural affiliation between the human remains and Indian Tribes or Native Hawaiian organizations in this notice.

DATES: Repatriation of the human remains in this notice may occur on or after January 17, 2025.

ADDRESSES: Amy E. Gusick, NAGPRA Officer, Los Angeles County Museum of Natural History, 900 Exposition Boulevard, Los Angeles, CA 90007, telephone (213) 763-3370, email agusick@nhm.org.

SUPPLEMENTARY INFORMATION: This notice is published as part of the National Park Service's administrative responsibilities under NAGPRA. The determinations in this notice are the sole responsibility of the LACMNH, and additional information on the determinations in this notice, including the results of consultation, can be found in its inventory or related records. The National Park Service is not responsible for the determinations in this notice.

Abstract of Information Available

Human remains representing, at least, one individual have been identified. No associated funerary objects are present. The individual was removed from Elizabeth Lake, Deadman's Cave, Los Angeles County, CA. A nearly complete skeleton was found unnumbered in the LACMNH collections with no accession records (HSRA-46). In 1995, LACMNH conducted an inventory of human remains in its collections and identified these remains to be female with an age range at the time of death to be between 40-60. “Elizabeth Lake” is written on one of the bones and “Elizabeth Lake, Deadman's Cave” is written on the mandible. There are no known individuals.

Since this initial assessment, in consultation with representatives of the Yuhaaviatam of San Manuel Nation (previously listed as San Manuel Band of Mission Indians, California), Morongo Band of Mission Indians, California and non-federally recognized California Indian groups including the Fernandeño Tataviam Band of Mission Indians, the LACMNH has investigated the collection history of these human remains but have not been able to identify further information.

Based on biological and geographical information, the human remains are determined to be Native American. Archaeologists have asserted that Serrano and Tataviam peoples have continuously occupied the Antelope Valley, the San Gabriel Mountains, and the surrounding areas for up to 5,000-6,000 years BP. Ethnographer, John Peabody Harrington recorded several Serrano place names throughout the Antelope Valley during his interviews with Yuhaaviatam leader, Santos Manuel in 1918. Manuel's testimony and Serrano Traditional Knowledge identify Elizabeth Lake as home to Serrano peoples since time immemorial.

Human remains representing, at least, 22 individuals have been identified. No associated funerary objects are present. The individuals were removed from the Vasquez Rocks (CA-LAN-361) site in northern Los Angeles County, CA. Owners of the land on which the site now rests, Dr. Ascher and family, spent many years digging at the site in the mid-1900s. In 1966, the location was bulldozed by vandals. Between 1967-1970, LACNHM curator Dr. Charles Rozaire, as part of the California State University, Northridge Archaeological School, held field schools at the site, where students and supervisors excavated the bulldozed site and recovered artifacts and bone originally identified as faunal (non-human) bone. As a result of the looting and bulldozing, the artifacts and bones recovered from the site were not in original context and were highly fragmented.

In consultation with representatives of the Yuhaaviatam of San Manuel Nation (previously listed as San Manuel Band of Mission Indians, California) and non-federally recognized California Indian groups including the Fernandeño Tataviam Band of Mission Indians, in 2021, LACMNH conducted a detailed bioarcheological assessment of the bone recovered from CA-LAN-361 resulting in identification of human remains. The report identified 14 children with an age range between 37-39 weeks gestation/perinate and 10-12 years old. It is likely that some of the children whose specific age ranges could not be assessed were older than 12 years. There are at least eight adults represented. Among them, two are likely males (represented by a mandible and a temporal bone fragment) and one older adult. Most of the remains are extremely fragmented and there are some non-human skeletal remains in the assemblages. Most of the remains were impacted by the history of vandalism and heat from cremation with varying temperatures and exposure. There are no known humans.

Based on archaeological context and information learned from consultations, these individuals are Native American. Based on UFO artifact assemblage typologies, obsidian hydration readings and one radiocarbon date, archaeological evidence demonstrates that Vasquez Rocks (CA-LAN-361) was used as a cemetery between 2315 BCE—79 BCE (Caruso 1988, Garza 2012, King et al. 1974), the Middle Holocene Period. Archaeologists have asserted that Serrano and Tataviam peoples have continuously occupied the San Gabriel Mountains and the surrounding areas for up to 5,000-6,000 years BP. Linguistic sources demonstrate a strong continuous shared group identity between those people using Vasquez Rocks roughly 3000 years ago and modern Native Americans of Serrano and Tataviam descent. Ethnographic evidence and Traditional Knowledge document the Agua Dulce and Sierra Pelona regions as home to Serrano and Tataviam peoples since time immemorial.

Cultural Affiliation

Based on the information available and the results of consultation, cultural affiliation is reasonably identified by the geographical location or acquisition history of the human remains described in this notice.

Determinations

The LACMNH has determined that:

• The human remains described in this notice represent the physical remains of 23 individuals of Native American ancestry.

• There is a connection between the human remains described in this notice and the Yuhaaviatam of San Manuel Nation (previously listed as San Manuel Band of Mission Indians, California) and the Morongo Band of Mission Indians, California.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after January 17, 2025. If competing requests for repatriation are received, the LACMNH must determine the most appropriate requestor prior to repatriation. Requests for joint repatriation of the human remains are considered a single request and not competing requests. The LACMNH is responsible for sending a copy of this notice to the Indian Tribes and Native Hawaiian organizations identified in this notice.

Authority: Native American Graves Protection and Repatriation Act, 25 U.S.C. 3003, and the implementing regulations, 43 CFR 10.10.

Dated: December 11, 2024.
Melanie O'Brien,
Manager, National NAGPRA Program.

[FR Doc. 2024-29943 Filed 12-17-24; 8:45 am]

BILLING CODE 4312-52-P